ENVIRONMENTAL PROTECTION AGENCY

[KY119-200023; FRL-6726-8]

Adequacy Status of the Northern Kentucky Submitted Ozone Redesignation Request and Maintenance State Implementation Plan for Transportation Conformity Purposes

AGENCY: Environmental Protection Agency (EPA).

ACTION: Notice of adequacy.

SUMMARY: In this document, EPA is notifying the public that we have found that the motor vehicle emissions budgets for oxides of nitrogen and volatile organic compounds for the year 2010 in the Ozone Redesignation Request and Maintenance State Implementation Plan (SIP) submitted by the Commonwealth of Kentucky for Northern Kentucky are adequate for transportation conformity purposes. On March 2, 1999, the D.C. Circuit Court ruled that submitted SIPs cannot be used for conformity determinations until EPA has affirmatively found them adequate. As a result of our finding, the motor vehicle emissions budgets in the submitted Northern Kentucky Ozone Redesignation Request and Maintenance SIP must be used for future conformity determinations.

DATES: These budgets are effective July 14, 2000.

FOR FURTHER INFORMATION CONTACT: The finding will be available at EPA's conformity website: http://www.epa.gov/oms/traq, (once there, click on the “Conformity” button, then look for “Adequacy Review of SIP Submissions for Conformity”).

The SIP is available for public viewing at the United States Environmental Protection Agency, 61 Forsyth Street, SW., Atlanta, Georgia 30303. You can request a copy of the SIP submission by contacting Dr. Robert W. Goodwin, Regulatory Planning Section, United States Environmental Protection Agency, 61 Forsyth Street, SW., Atlanta, Georgia 30303, Phone: (404) 562-9044, Fax: (404) 562-9019, E-smail: Goodwin.Robert@EPA.gov.

SUPPLEMENTARY INFORMATION:

Background

Today's document is simply an announcement of a finding that we have already made. EPA Region 4 sent a letter to the Kentucky Division for Air Quality on May 24, 2000, stating that the motor vehicle emissions budgets in the submitted Northern Kentucky Ozone Redesignation Request and Maintenance SIP for the year 2010 are adequate. This finding will also be announced on EPA's conformity website: http://www.epa.gov/oms/traq, (once there, click on the “Conformity” button, then look for “Adequacy Review of SIP Submissions for Conformity”).

Transportation conformity is required by section 176(c) of the Clean Air Act. EPA's conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). We've described our process for determining the adequacy of submitted SIP budgets in guidance (May 14, 1999 memo titled “Conformity Guidance on Implementation of March 2, 1999 Conformity Court Decision”). We followed this guidance in making our adequacy determination.

Authority: 42 U.S.C. 7401-7671q.

Dated: June 21, 2000.
A. Stanley Meiburg,
Acting Regional Administrator, Region 4.

[FR Doc. 00-16517 Filed 6-28-00; 8:45 am]

BILLING CODE 6560-50-P